DEPARTMENT OF ENERGY

Federal Energy Regulatory Commission

[Docket No. RP96-359-015]

Transcontinental Gas Pipe Line Corporation; Notice of Negotiated Rates

May 13, 2003.

Take notice that on May 6, 2003, Transcontinental Gas Pipe Line Corporation (Transco) tendered for filing a copy of the executed service agreement amendment that contains a negotiated daily facilities reservation rate surcharge (facilities surcharge) under Transco's Rate Schedule FT for the costs of the expansion of the U.S. Steel Meter Station, a delivery point to PECO Energy Company (PECO). The effective date of this facilities surcharge is May 7, 2003, which is the anticipated in-service date of the U.S. Steel Meter Station expansion.

Transco states that Transco and PECO are parties to a service agreement, dated June 1, 2001, under Transco's Rate Schedule FT for firm transportation service under Transco's Leidy East Expansion Project. Transco further states that it has agreed to construct an expansion of the U.S. Steel Meter Station, a delivery point to PECO located on Transco's main line in Bucks County, Pennsylvania. Transco asserts that pursuant to Section 20.7 of the General Terms and Conditions of Transco's FERC Gas Tariff, Transco and PECO have executed an amendment to the service agreement to revise Exhibit C thereto to include a facilities surcharge for the expansion of the U.S. Steel Meter Station in addition to the negotiated daily reservation rate for PECO's firm transportation service under Transco's Leidy East Expansion Project. Transco states that the effective date of this facilities surcharge is May 7, 2003, which is the anticipated in-service date of the U.S. Steel Meter Station expansion.

Transco states that copies of the filing are being mailed to its affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 19, 2003.

Magalie R. Salas,
Secretary.

[FR Doc. 03-12445 Filed 5-16-03; 8:45 am]

BILLING CODE 6717-01-P